JUDICIAL CONFERENCE OF THE UNITED STATES

Advisory Committee on Evidence Rules; Meeting of the Judicial Conference

AGENCY: Judicial Conference of the United States, Advisory Committee on Evidence Rules.

ACTION: Notice of cancellation of open meeting.

SUMMARY: The following open meeting has been canceled: Advisory Committee on Evidence Rules on May 8, 2020, in Washington, DC.

FOR FURTHER INFORMATION CONTACT: Rebecca A. Womeldorf, Secretary, Committee on Rules of Practice and Procedure of the Judicial Conference of the United States, Thurgood Marshall Federal Judiciary Building, One Columbus Circle NE, Suite 7-300, Washington, DC 20544, Telephone (202) 502-1820, RulesCommittee_Secretary@ao.uscourts.gov.

SUPPLEMENTARY INFORMATION: An announcement for this meeting was previously published in 85 FR 13923.

Dated: March 31, 2020.
Rebecca A. Womeldorf,
Secretary, Committee on Rules of Practice and Procedure, Judicial Conference of the United States.

[FR Doc. 2020-07088 Filed 4-3-20; 8:45 am]

BILLING CODE 2210-55-P